DEPARTMENT OF ENERGY

Federal Energy Regulatory Commission

[Docket No. ER-2356-000]

Entergy Services; Inc.; Notice of Filing

May 10, 2000.

Take notice that on April 28, 2000 Entergy Services, Inc., acting as agent for Entergy Arkansas, Inc., Entergy Gulf States, Inc., Entergy Louisiana, Inc., Entergy Mississippi, Inc., and Entergy New Orleans, Inc. (collectively, the Entergy Operating Companies), tendered for filing a Network Integration Transmission Service Agreement and a Network Operating Agreement, both between Entergy Services, Inc., as agent for the Entergy Operating Companies, and Cleco Utility Group, Inc.

Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions and protets should be filed on or before May 19, 2000. Protests will be considered by the Commission to determine the appropriate action to be taken, but will not serve to make protestants parties to the proceedings. Any person wishing to become a party must file a motion to intervene. Copies of this filing are on file with the Commission and are available for public inspection. This filing may also be viewed on the Internet at http://www.ferc.fed.us/online/rims.htm (call 202-208-2222 for assistance).

Linwood A. Watson, Jr.,
Acting Secretary.

[FR Doc. 00-12216 Filed 5-15-00; 8:45 am]

BILLING CODE 6717-01-M